COMMITTEE FOR PURCHASE FROM PEOPLE WHO ARE BLIND OR SEVERELY DISABLED

Procurement List; Redesignation of Services

AGENCY: Committee for Purchase From People Who Are Blind or Severely Disabled.

ACTION: Redesignation of procurement list services.

SUMMARY: This notice redesignates services on the Procurement List which will be procured on a Basewide basis rather than for individual buildings. These services are being performed for the Department of the Air Force, Edwards Air Force Base, California.

EFFECTIVE DATE: November 5, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: The following services are on the Procurement List to be performed by the designated nonprofit agency for the Department of the Air Force, Edwards Air Force Base, California as identified below:

Service Type/Location: Grounds Maintenance. Chapel Building Number: 2700, Hospital Areas: 5500, 5510 and 5550, Recreation Fields: 2201, 5210, 5202 and 5213, Building Numbers: 1200, 1220, 1400, 2650, 2656 2800, 3940 and P-1, Building Numbers: 1020, 1610, 2650A, and 6004, Building Number: 5513 Dental Clinic, Onizuka Park; Base Command—Building Number 2750; Burger King—Building Number 6006; Base Hospital Buildings Numbers: 5520, 5521, 5522; Family and Child Care Office Building Number: 7174; Credit Union Building Number: 2680.

Service Type/Location: Grounds Maintenance and Sprinkler System Maintenance, Areas: 1440 and 3920, Hospital Building Number: 2430, Four New Athletic Fields: Softball, Little League, Soccer (Practice), and Little League (Practice), Building Numbers: 1609, 2860, 8350, 8351, 8352, 8353, 8354 and 8356, Building Numbers: 1250, 1260, 1633, 2410, 2419, 2453, 2600, 2850,3535 Offsite, 3950, 5601, 6441, 6443, 8251, 8252, 8255, T-28, and 1200,Parking Islands, Building Numbers: 2500, 2665, 3535, 5600, 5602, 5603, 5604, 5605, 6445, 6447, 420, 6000, 7220, 2421, 5211, and Desert Villa Complex, Building Number: 6459.

Service Type/Location: Litter Pickup.

NPA: Desert Haven Enterprises, Inc., Lancaster, California.

Contract Activity: 95th CONS/PKB, Edwards Air Force Base, California.

The above services will be procured by the 95th CONS/PKB, Edwards Air Force Base, California on a Basewide basis and are thus being redesignated collectively on the Procurement List as set forth below, and the nonprofit agency identified below has been designated as the qualified nonprofit agency authorized to provide the services.

Service Type/Location: Grounds Maintenance, Basewide (Excluding Military Family Housing area, Military Mobile Home Park area, Base Golf Course area, National Aeronautics and Space Administration (NASA) area, and the Civil Engineering Directorate in-house A-76 MEO agreement areas)Edwards Air Force Base, California.

NPA: Desert Haven Enterprises, Inc., Lancaster, California.

Contract Activity: 95th CONS/PKB, Edwards Air Force Base, California.

Sheryl D. Kennerly,
Director, Information Management.

[FR Doc. 04-24743 Filed 11-4-04; 8:45 am]

BILLING CODE 6353-01-P